DEPARTMENT OF COMMERCE

National Oceanic and Atmospheric Administration

[I.D. 012601A]

Endangered Species; Permits

AGENCY: National Marine Fisheries Service (NMFS), National Oceanic and Atmospheric Administration (NOAA), Commerce.

ACTION: Withdrawal of two incidental take permit applications (1151 and 1255) and a scientific research permit application (1160).

SUMMARY: Notice is hereby given of the following actions regarding permits for takes of endangered and threatened species for the purposes of scientific research and/or enhancement: NMFS has received notice from the Oregon Department of Fish and Wildlife at Roseburg, OR (ODFW) to withdraw its permit application for an incidental take of an ESA-listed anadromous fish species associated with non-listed fish hatchery operations in the Umpqua River Basin in OR. NMFS has received notice from ODFW at Portland, OR and the Washington Department of Fish and Wildlife at Vancouver, WA (WDFW) to withdraw their joint permit application for an incidental take of ESA-listed anadromous fish species associated with fisheries directed at non-listed species in the fall of 2000. NMFS has received notice from WDFW at Vancouver, WA to withdraw an application for a permit for a take of an ESA-listed species associated with scientific research.

ADDRESSES: For permit application 1255: Sustainable Fisheries Division, F/NWR2, 7600 Sand Point Way NE, Seattle, WA 98115-0070 (ph: 206-526-4655, fax: 206-526-6736).

For permit applications 1151 and 1160: Protected Resources Division, F/NWR3, 525 NE Oregon Street, Suite 500, Portland, OR 97232-4169 (ph: 503-230-5400, fax: 503-230-5435).

FOR FURTHER INFORMATION CONTACT: For permit application 1255: Enrique Patino, Seattle WA (206-526-4655, fax: 206-526-6736, e-mail: enrique.patino@noaa.gov).

For permit applications 1151 and 1160: Robert Koch, Portland, OR (503-230-5424, fax: 503-230-5435, e-mail: robert.koch@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Species Covered in This Notice

The following species and evolutionary significant units (ESUs) are covered in this notice:

Chinook salmon (Oncorhynchus tshawytscha): threatened Snake River (SnR) fall, threatened lower Columbia River (LCR).

Steelhead (O. mykiss): threatened SnR, endangered naturally produced and artificially propagated upper Columbia River, threatened middle Columbia River, threatened LCR, threatened upper Willamette River.

Chum salmon (O. keta): threatened Columbia River.

Permit Applications Withdrawn

Notice was published on June 10, 1998 (63 FR 31739), that ODFW applied for an incidental take permit under section 10(a)(1)(B) of the ESA. The permit was requested for a take of adult and juvenile, endangered, Umpqua River cutthroat trout (O. clarki clarki) associated with non-listed fish hatchery operations in the Umpqua River Basin in OR. Subsequent to the submittal of ODFW’s permit application, and the conduct of a 30-day public comment period on the application, NMFS determined that the Umpqua River cutthroat trout, formerly identified as an Evolutionarily Significant Unit of the species, is part of a larger population segment that previously was determined to be neither endangered nor threatened as defined by the Endangered Species Act (see 65 FR 20915, April 19, 2000). Therefore, NMFS determined that the Umpqua River cutthroat trout should be removed from the Federal List of Endangered and Threatened species. As such, on September 14, 2000, ODFW notified NMFS to withdraw its section 10(a)(1)(B) permit application from consideration.

Notice was published on May 3, 2000 (65 FR 34442), that ODFW and WDFW jointly applied for an incidental take permit under section 10(a)(1)(B) of the ESA. The permit was requested for a take of ESA-listed adult and juvenile salmonids associated with otherwise lawful sport and commercial fisheries on non-listed species in the lower and middle Columbia River and its tributaries during the fall of 2000. Subsequent to the submittal of ODFW/WDFW’s permit application, and the conduct of a 30-day public comment period on the application and a draft Environmental Assessment/Finding of No Significant Impact for the proposed permit, an incidental take of ESA-listed species was authorized on July 31, 2000 using the section 7 consultation process. As such, ODFW/WDFW jointly notified NMFS to withdraw the section 10(a)(1)(B) permit application from consideration.

Notice was published on June 26, 1998 (63 FR 34852), that WDFW applied for a scientific research permit under section 10(a)(1)(A) of the Endangered Species Act. The permit was requested for an annual take of adult and juvenile, threatened, LCR steelhead associated with research designed to monitor steelhead genetic and biological parameters in the Wind River Basin in WA. At the time that the permit was requested, protective regulations for threatened LCR steelhead under section 4(d) of the ESA had not been promulgated by NMFS. After the protective regulations for threatened LCR steelhead were established (see 65 FR 42422, July 10, 2000), NMFS determined that WDFW’s annual take of LCR steelhead associated with the proposed scientific research in the Wind River Basin would best be handled using WDFW’s scientific research take limit under the 4(d) rule for that species. As such, on January 5, 2001, WDFW notified NMFS to withdraw its permit application from consideration.

Dated: January 26, 2001.
Chris Mobley,
Acting Chief, Endangered Species Division, Office of Protected Resources, National Marine Fisheries Service.

[FR Doc. 01-2883 Filed 2-1-01; 8:45 am]

BILLING CODE 3510-22-S